DEPARTMENT OF THE INTERIOR

Bureau of Land Management

[NV-030-1430-EU; N-78083, 7-08808]

Notice of Realty Action: Non-Competitive (Direct) Sale of Reversionary Interest, Portion of Recreation and Public Purposes Act Patent Number 27-74-0044; Nevada

AGENCY: Bureau of Land Management, Interior.

ACTION: Notice of realty action.

SUMMARY: The Bureau of Land Management (BLM) proposes to sell the reversionary interest of the United States held in the 3.75 acres of land patented to Carson City pursuant to the Recreation and Public Purposes (R&PP) Act of June 14, 1926, as amended (43 U.S.C. 869 et seq.), for a public park (N 7325) in Carson City, Nevada. The sale is authorized under the provisions in section 203 of the Federal Land Policy and Management Act (FLPMA) [43 U.S.C. 1713] and applicable regulations found at the 43 Code of Federal Regulations (CFR) at 2710.

DATES: For a period until October 4, 2007, interested parties may submit comments to the Field Manager, BLM Carson City Field Office.

ADDRESSES: Detailed information including but not limited to documentation relating to compliance with all applicable environmental and cultural resource laws is available for review at the BLM Carson City Field Office. Address written comments concerning this notice to: Donald T. Hicks, BLM Carson City Field Office Manager, 5665 Morgan Mill Road, Carson City, NV 89701.

FOR FURTHER INFORMATION CONTACT: Charles J. Kihm, Realty Specialist, at the address above or call (775)-885-6000.

SUPPLEMENTARY INFORMATION: The following described land in Carson City, Nevada, was patented to Carson City pursuant to the R&PP Act of June 14, 1926 (44 Stat. 741, as amended; 43 U.S.C. 869 et seq.), on May 7, 1974, for use as a public park (N 7325).

Mount Diablo Meridian, Nevada

T. 15 N., R. 20 E.

Sec. 1, SW¼SW¼NW¼;

Sec. 2, W½ Lot 2 of NW¼, NE¼, and N½SE¼;

Sec. 3, E½ Lot 2 of NE¼.

T. 16 N., R. 20 E.

Sec. 35, SW¼ and W½SE¼.

The area described contains 573.22 acres, more or less.

Pursuant to the Recreation and Public Purpose (R&PP) Act, the United States retained and continues to hold a reversionary interest in the above described land. If Carson City attempts to transfer the title to, or control over, the land to a for-profit entity, or if the land is devoted to a for-profit use, the land, as stated in the Act, shall revert to the United States (43 U.S.C. 869-2(a)). Carson City proposes to change the use of a 3.75 acre parcel, located wholly within the above described 573.22 acre parcel of land from a city park use to a commercial (for-profit) use. If pursued, this new use would trigger the R&PP Act reverter or require its enforcement.

The Federal reversionary interest in 3.75 acres of land in Carson City, Nevada, has been examined and found suitable for non-competitive (direct) sale, at fair market value, to the City of Carson City, Nevada in accordance with the FLPMA. Consequently, Carson City has requested the BLM to sell, pursuant to section 203 of the FLPMA, the following described parcel of land, free and clear of the R&PP Act reversionary interest of the United States:

Mount Diablo Meridian, Nevada

T. 15 N., R. 20 E.

Sec. 2, S½SW¼SW¼NE¼SE¼, and SE¼SW¼NE¼SE¼.

The area described contains 3.75 acres, more or less.

Carson City would pay the fair market value of this land in the sum of $510,000, as determined by the BLM authorized officer having taken into account an appraisal, conducted in accordance with the applicable appraisal standards and that assumed the land to be free and clear of the outstanding reversionary interest now held by the United States.

Direct sale procedures to Carson City are considered appropriate, in this case, pursuant to 43 CFR 2710.0-6(c)(3)(iii) as the 3.75 acre parcel of land described above was patented previously to Carson City, and transfer of the Federal reversionary interest to any other entity would not protect existing equities in the land. The reversionary interest is not needed for any Federal purpose. The disposal is consistent with the 2001 BLM Carson City Consolidated Resource Management Plan, and would be in the public interest. The commercial use of this parcel would benefit Carson City by allowing resolution of an inadvertent encroachment onto the parcel.

Terms And Conditions

The conveyance for the reversionary interest of the 3.75 acres will be subject to the provisions of the Federal Land Policy and Management Act and applicable regulations of the Secretary of the Interior, and the land will continue to be subject to the following numbered terms and conditions:

1. The reservation of a right-of-way thereon for ditches or canals constructed by the authority of the United States, Act of August 30, 1890 (26 Stat. 391; 43 U.S.C. 945);

2. All minerals shall be reserved to the United States, together with the right to prospect for, mine and remove such deposits from the same under applicable law and such regulations as the Secretary of the Interior may prescribe, including all necessary access and exit rights;

3. Subject to valid existing rights;

4. A right-of-way for Federal-Aid Highway purposes under Serial No. CC 020801 as authorized under the Act of August 27, 1958, as amended (23 U.S.C. 317);

5. By accepting the sale patent, Carson City, subject to the limitations of law and to the extent allowed by law, shall be responsible for the acts or omissions of its officers, directors and employees in connection with the use or occupancy of the patented real property. Successors-in-interests of the patented real property:

Mount Diablo Meridian, Nevada

T. 15 N., R. 20 E.

Sec. 2, S½SW¼SW¼NE¼SE¼ and SE¼SW¼NE¼SE¼.

The area described contains 3.75 acres, more or less.

except Carson City, shall indemnify, defend, and hold the United States and Carson City harmless from any costs, damages, claims, causes of action, penalties, fines, liabilities, and judgments of any kind or nature arising from the past, present, and future acts or omissions of the successors-in-interest, excluding Carson City, or its employees, agents, contractors, or lessees, arising out of or in connection with the successor-in-interests, excluding Carson City, use, occupancy, or operations on the patented real property. This indemnification and hold harmless agreement includes, but is not limited to, acts and omissions of the successor-in-interests, excluding Carson City, and its employees, agents, contractors, or lessees, arising out of or in connection with the use and/or occupancy of the patented real property which has already resulted or does hereafter result in: (1) Violations of Federal, State, and local laws and regulations that are now or may in the future become, applicable to the real property; (2) Judgments, claims or demands of any kind assessed against the United States or Carson City; (3) Costs, expenses, or damages of any kind incurred by the United States or Carson City; (4) Other releases or threatened releases of solid or hazardous waste(s) and/or hazardous substances(s), as defined by Federal or State environmental laws, off, on, into or under land, property and other interests of the United States or Carson City; (5) Other activities by which solids or hazardous substances or wastes, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced against successors-in-interest, excluding Carson City, by the United States or Carson City in a court of competent jurisdiction.

No representation, warranty or covenant of any kind, express or implied, will be given or made by the United States, its officers or employees, as to access to or from the above described parcel of land, the title to the land, whether or to what extent the land be developed, its physical condition or its past, present of potential uses. However, to the extent required by law, the sale will be subject to the requirements of section 120(h) of the Comprehensive Environmental Response, Compensation and Liability Act (42 U.S.C. 9620(h)).

Comments must be received by the BLM Carson City Field Office Manager at the address above, on or before the date noted in the DATES section above. Before including your address, phone number, e-mail address, or other personal identifying information in your comment, you should be aware that your entire comment—including your personal identifying information—may by made publicly available at any time. While you can ask us in your comment to withhold your personal identifying information from public review, we cannot guarantee that we will be able to do so.

Facsimiles, telephone calls, and electronic mails are unacceptable means of notification. Any adverse comments regarding the proposed action will be reviewed by the State Director, who may sustain, vacate or modify this realty action. The lands will not be offered for sale until at least 60 days after the date of publication of this notice in the Federal Register.

Authority: 43 CFR 2711.1-2(a) and (c).

Donald T. Hicks,
Manager, Carson City Field Office.

[FR Doc. E7-16340 Filed 8-17-07; 8:45 am]

BILLING CODE 4310-HC-P